DEPARTMENT OF DEFENSE

Department of the Navy

Notice of Intent To Prepare a Programmatic Environmental Impact Statement for Accommodating Development Within Marine Corps Base Quantico, VA

AGENCY: Department of the Navy, DOD.

ACTION: Notice.

SUMMARY: Pursuant to section 102(2)(c) of the National Environmental Policy Act (NEPA) of 1969 as implemented by the Council on Environmental Quality regulations (40 CFR Parts 1500-1508), the Department of the Navy announces its intent to prepare a programmatic Environmental Impact Statement (EIS) to evaluate the potential environmental effects of accommodating various types and levels of development at Marine Corps Base Quantico (MCBQ), VA.

DATES: A public scoping meeting will be held on Wednesday, June 12, 2002, beginning at 7 p.m., at the Ramada Inn, 4316 Inn Street, Triangle, VA.

ADDRESSES: Written comments, statements and/or questions regarding scoping issues should be addressed to: Mr. Hank Riek, Engineering Field Activity Chesapeake, 1314 Harwood Street, SE, Washington Navy Yard, Washington, DC 20374-5018. All written comments must be received no later than July 1, 2002.

FOR FURTHER INFORMATION CONTACT: Mr. Hank Riek, Engineering Field Activity Chesapeake, at (202) 685-3064.

SUPPLEMENTARY INFORMATION: Marine Corps Base (MCB) Quantico, VA manages over 60,000 acres of land approximately 30 miles south of Washington, DC. A variety of Department of Defense programs, including those related to base realignments and closures, and movement of Federal activities from leased space to Federally owned facilities have resulted in the relocation of federal activities to MCB Quantico. Because of its size, controlled access, proximity to the Washington, DC area, and heightened security concerns following the terrorists attacks of September 11, 2001, MCB Quantico has been and is expected to continue to be an increasingly attractive location for accommodating future relocations for other Marine Corps activities and related agencies. In anticipation of these relocations and to address traffic concerns resulting from growth at the installation, the base has conducted a variety of planning studies. These studies have lead to the identification of two specific areas within the western area of the base that could be used to accommodate new requirements without conflicting with installation's primary mission of military education and training. The areas identified for accommodating new requirements consist of approximately 270 acres located west of Interstate 95 along Marine Corps Base Road 1, a primary access route within the installation. The studies also support the widening of Russell Road, a major access route within the installation, which connects the main containment area of the base, located east of Interstate 95, with regional transportation routes that serve the base.

The EIS will examine the environmental effects of various types and levels of potential development within the western areas consisting primarily of administrative office space, warehousing and light industrial. Alternatives for improvements of Russell Road would include widening by one or two lanes and associated traffic controls and road features.

Issues to be addressed in the EIS will include effects to vegetation, wildlife, water resources, wetlands, threatened and endangered species, historic and archaeological resources, air quality, socio-economics, and traffic.

The Marine Corps will initiate a scoping process for the purpose of determining the extent of issues to be addressed, and identifying the significant issues related to this action. The Marine Corps will hold a public scoping meeting as noted in the Dates section of this notice. This meeting will be advertised in area newspapers.

Marine Corps representatives will be available at the meeting to receive comments from the public regarding issues of concern to the public. Federal, state and local agencies, and interested individuals are encouraged to take this opportunity to identify environmental concerns that should be addressed during the preparation of the EIS. Agencies and the public are also invited and encouraged to provide written comment on scoping issues in addition to, or in lieu of, oral comments at the public meeting. To be most helpful, scoping comments should clearly describe specific issues or topics that the commenter believes the EIS should address. Written statements and/or questions regarding the scoping process should be mailed to the addresses noted in the Address section of this notice.

Dated: May 22, 2002.
R.E. Vincent II,
Lieutenant Commander, Judge Advocate General's Corps, U.S. Navy, Federal Register Liaison Officer.

[FR Doc. 02-13284 Filed 5-28-02; 8:45 am]

BILLING CODE 3810-FF-P